NATIONAL SCIENCE FOUNDATION

Sunshine Act Meetings; National Science Board

The National Science Board's Executive Committee, pursuant to NSF regulations (45 CFR part 614), the National Science Foundation Act, as amended (42 U.S.C. 1862n-5), and the Government in the Sunshine Act (5 U.S.C. 552b), hereby gives notice of the scheduling of a teleconference for the transaction of National Science Board business, as follows:

DATE and TIME: Wednesday, March 25, 2015, 10:30-11:30 a.m. EDT.

SUBJECT MATTER: Chairman's remarks and discussion of legislative issues.

STATUS: Closed.

This meeting will be held by teleconference. Please refer to the National Science Board Web site www.nsf.gov/nsb for additional information and schedule updates (time, place, subject matter or status of meeting) which may be found at http://www.nsf.gov/nsb/notices/. Point of contact for this meeting is James Hamos at jhamos@nsf.gov.

Suzanne Plimpton,
Reports Clearance Officer, National Science Foundation.

[FR Doc. 2015-07088 Filed 3-24-15; 4:15 pm]

BILLING CODE 7555-01-P